DEPARTMENT OF TRANSPORTATION

National Highway Traffic Safety Administration

[U.S. DOT Docket No. NHTSA-2013-0112]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before January 14, 2014.

ADDRESSES: You may submit comments identified by DOT Docket ID Number NHTSA-2013-0112 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Dr. Kathy Sifrit, Contracting Officer's Technical Representative, Office of Behavioral Safety Research (NTI-132), National Highway Traffic Safety Administration, 1200 New Jersey Avenue SE., W46-472, Washington, DC 20590. Dr. Sifrit's phone number is (202) 366-0868 and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses. In compliance with these requirements, NHTSA asks public comment on the following proposed collection of information:

Physical Fitness and Driving Performance

Type of Request—New information collection requirement.

OMB Clearance Number—None.

Form Number—NHTSA Form 1227.

Requested Expiration Date of Approval—3 years from date of approval.

Summary of the Collection of Information—The National Highway Traffic Safety Administration (NHTSA) proposes to collect information from licensed drivers about their driving habits, and levels of physical activity in order to determine whether they are eligible to participate in a study of the effects of physical activity on driving performance. Study participation will be voluntary and solicited among residents of one or more planned communities in the vicinity of Chapel Hill, North Carolina. Solicitations will be in the form of flyers posted at a community center, and/or announcements in newsletters and on community listserves, and/or sign-ups at a weekly farmer's market and other local events. Interested residents will contact a designated staff member through a toll-free number to enroll. During a brief telephone pre-screening, a project assistant will explain inclusion and exclusion criteria for study participation. Candidate participants who meet inclusion criteria will respond to a telephone questionnaire to allow researchers to gauge activity and fitness level.

A project assistant will make appointments to visit each enrollee to obtain his/her signature on the informed consent agreement, answer questions about study participation and provide the subject with a physical activity monitoring device. The remaining data necessary for this study will be collected by the physical activity monitoring device, a driving performance assessment conducted by a driving rehabilitation specialist, and an in-vehicle data collection system. The in-vehicle system will include a device to collect the vehicle's Global Positioning System coordinates and a companion device to capture an image of the driver to confirm that the driver for each trip is the study participant.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Previous research indicates that gains in physical fitness improve a number of functional abilities important for safe driving. NHTSA needs to learn more about these relationships between fitness/activity and driving performance to support the development of recommendations and educational/outreach materials aimed at older driver safety. The proposed screening questions and questions about fitness and activity level will allow research staff to ensure that prospective participants meet study inclusion criteria and facilitate their study participation.

The purpose of the study is to assess the effect(s) of physical activity and physical fitness training on the driving performance of adults 70 and older. Analyses of these data will provide information about whether people age 70 and older who participate in regular physical activity perform better in a driving evaluation and/or drive more than do healthy, sedentary drivers of a similar age; whether particular physical training activities relate to improved functioning in specific driving tasks; and the extent to which driving performance and/or exposure of sedentary older adults will improve, following participation in physical activity. NHTSA will use the information to inform recommendations to the public regarding how improved physical fitness can result in better driving performance for the purpose of reducing injuries and loss of life on the highway.

Description of the Likely Respondents (Including Estimated Number, and Proposed Frequency of Response to the Collection of Information)—Respondents will include community dwelling, independently living licensed drivers, age 70 and older, from Chapel Hill, North Carolina and surrounding areas. It is estimated that 270 telephone conversations will be conducted with respondents to descriptive solicitations to yield 180 study participants. This assumes that up to one-third of interested older drivers will not meet inclusion/exclusion criteria for study participation.

Estimate of the Total Annual Reporting and Recordkeeping Burden Resulting from the Collection of Information—The 270 telephone conversations will average 15 minutes in length including introduction, qualifying questions, potential participant questions, logistical questions, and conclusion. The total estimated annual burden will be 67.5 hours. Participants will incur no costs from the data collection and participants will incur no record keeping burden and no record keeping cost from the information collection.

Authority: 44 U.S.C. 3506(c)(2)(A).

Issued on November 12, 2013.
Jeff Michael,
Associate Administrator, Research and Program Development.

[FR Doc. 2013-27400 Filed 11-14-13; 8:45 am]

BILLING CODE P